DEPARTMENT OF THE INTERIOR

Bureau of Land Management

[LLWYR0000.L16100000.DP0000.LXSS042K0000]

Notice of Availability of a Supplement to the Bighorn Basin Draft Resource Management Plan/Environmental Impact Statement, Cody and Worland Field Offices, WY

AGENCY: Bureau of Land Management, Interior.

ACTION: Notice of availability.

SUMMARY: In accordance with the National Environmental Policy Act (NEPA) of 1969, as amended, and the Federal Land Policy and Management Act (FLPMA) of 1976, as amended, the Bureau of Land Management (BLM) is announcing the availability of a Supplement to the Draft Resource Management Plan (RMP) and Environmental Impact Statement (EIS) for the Bighorn Basin Planning Area and announcing the opening of the comment period.

DATES: To ensure that comments will be considered, the BLM must receive written comments on the Supplement to the Draft RMP/EIS within 90 days after the Environmental Protection Agency (EPA) publishes its notice of availability of the Supplement in the Federal Register. The BLM will announce future meetings or hearings and any other public participation activities at least 15 days in advance through public notices, media releases, and/or mailings.

ADDRESSES: You may submit written comments related to the Supplement to the Draft RMP/EIS by any of the following methods:

• Web site: www.blm.gov/wy/st/en/programs/Planning/RMPs/bighorn.

• Email: BBRMP_WYMail@blm.gov.

• Mail: Worland Field Office, Attn: RMP Project Manager, 101 South 23rd, Worland, WY 82401.

Copies of the Supplemental Draft RMP/EIS are available at the following locations:

• Bureau of Land Management, Wyoming State Office, 5353 Yellowstone Road, Cheyenne, WY 82003.

• Bureau of Land Management, Cody Field Office, 1002 Blackburn Street, Cody, WY 82414.

• Bureau of Land Management, Worland Field Office, 101 South 23rd Street, Worland, WY 82401

The Supplement is also available on the Web site: www.blm.gov/wy/st/en/programs/Planning/RMPs/bighorn.

FOR FURTHER INFORMATION CONTACT: Caleb Hiner, RMP Project Manager, telephone 307-347-5171; address 101 South 23rd Street, Worland, WY 82401; email chiner@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Planning Area for the RMP supplement includes lands within the BLM Cody and Worland Field Offices administrative boundaries, in all of Big Horn, Park and Washakie Counties, and most of Hot Springs County in north-central Wyoming. The Planning Area includes all lands, regardless of jurisdiction, totaling 5.6 million acres; however, the BLM will only make decisions on lands that fall under the BLM's jurisdiction. Lands within the Planning Area under the BLM's jurisdiction make up the Decision Area. The Decision Area consists of BLM-administered surface, totaling 3.2 million acres, and mineral estate, totaling 4.2 million acres. The BLM-administered surface acreage and the Federal mineral estate acreage overlap in some areas.

The Notice of Intent (NOI) to prepare the Bighorn Basin RMP/EIS was published in the Federal Register on October 17, 2008 (73 FR 61900), and the Draft RMP/EIS was released to the public on April 22, 2011. On December 9, 2011, the NOI for the BLM's National Greater Sage-grouse Planning Strategy was published in the Federal Register (76 FR 77008). The planning area for National Greater Sage-grouse Planning Strategy included the Bighorn Basin Planning Area. The National Greater Sage-grouse Planning Strategy NOI invited the public to nominate or recommend areas on public lands for Greater Sage-grouse and their habitat to be considered as areas of critical environmental concern (ACECs). Through the scoping process, numerous nominations were presented, including a nomination for all priority Greater Sage-grouse habitats to be included. The two additional alternatives that will be analyzed in this Supplement to the Draft RMP/EIS were prepared to include these ACEC nominations, since these nominations were not received during the initial scoping period for the RMP/EIS in 2008. The two additional alternatives in the Supplement to the Draft RMP/EIS analyze all BLM lands within identified Greater Sage-grouse Key Habitat Areas (1.2 million acres—Alternative E) and Sage-grouse Core Population Areas (1.1 million acres—Alternative F), regardless of jurisdiction, as ACECs, as well as constraints on development and management of non-wilderness study area lands with wilderness characteristics. Both geographic boundaries have been identified as priority Sage-grouse habitat (PH), having the highest conservation value to maintaining sustainable Sage-grouse populations. These areas include breeding, late brood-rearing, and winter concentration areas.

Pursuant to 43 CFR 1610.7-2(b), this notice announces a public comment period on the proposed ACECs. A total of two ACECs are proposed in the Supplement. The proposed ACECs and the proposed resource use limitations that will occur for each proposed ACEC if formally designated are:

• Key Habitat Areas (1.2 million acres): Value of Concern: Greater Sage-grouse Habitat. Proposed Use Limitations: Right-of-Way Exclusion Areas, 3 percent surface disturbance limit, closed to fluid mineral leasing, closed to livestock grazing, closed to mineral material disposals, and recommend a withdrawal from appropriation under the mining laws.

• Core Areas (1.1 million acres): Value of Concern: Greater Sage-grouse Habitat. Proposed Use Limitations: Right-of-Way Avoidance Areas, 5 percent surface disturbance limit, and timing and surface use restrictions. The Preferred Alternative (Alternative D) within the existing Draft RMP/EIS was developed with consideration of specific issues raised through the 2008 public scoping period, recommendations from cooperating agencies, consideration of planning criteria, impact analysis and conformance with local land use plans. The Preferred Alternative remains unchanged in the Supplement to the Draft RMP/EIS. The final agency decision will follow a public protest period for the Proposed RMP, scheduled for release later in 2013. The Proposed RMP and Final EIS will reflect changes or adjustments based on information received during public comment, new information, or changes in BLM policies or priorities. The Proposed RMP may include portions of any analyzed alternatives or decisions otherwise within the spectrum of alternatives analyzed.

You may submit comments in writing to the BLM at any public meeting, or you may submit them to the BLM using one of the methods listed in the ADDRESSES section above. In order to reduce the use of paper and control costs, the BLM strongly encourages the public to submit comments electronically at the project Web site or via email. Only comments submitted using the methods described in the ADDRESSES section above will be accepted. Comments submitted must include the commenter's name and street address. Whenever possible, please include reference to either the page or section in the Supplement to the Draft RMP/EIS to which the comment applies.

Before including your address, phone number, email address, or other personal identifying information in your comment, you should be aware that your entire comment—including your personal identifying information—may be made publicly available at any time. While you may ask us in your comment to withhold your personal identifying information from public review, we cannot guarantee that we will be able to do so.

Authority: 40 CFR 1506.6, 1506.10, and 43 CFR 1610.2, 1610.7-2.

Mary Jo Rugwell,
Associate State Director, Wyoming.

[FR Doc. 2013-16630 Filed 7-11-13; 8:45 am]

BILLING CODE 4310-22-P